DEPARTMENT OF ENERGY

Federal Energy Regulatory Commission

Combined Notice of Filings #1

Take notice that the Commission received the following electric corporate filings:

Docket Numbers: EC24-125-000.

Applicants: Darby Power, LLC, Gavin Power, LLC, Lawrenceburg Power, LLC, Waterford Power, LLC, Lightstone Marketing LLC, ECP ControlCo, LLC.

Description: Darby Power, LLC et al. submit response to FERC's 03/06/2025 Second Deficiency Letter, request for shortened comment period and request for expedited Commission action.

Filed Date: 3/27/25.

Accession Number: 20250327-5270.

Comment Date: 5 p.m. ET 4/17/25.

Take notice that the Commission received the following exempt wholesale generator filings:

Docket Numbers: EG25-272-000.

Applicants: Lockhart Solar PV IV, LLC.

Description: Lockhart Solar PV IV, LLC submits Notice of Self-Certification of Exempt Wholesale Generator Status.

Filed Date: 3/31/25.

Accession Number: 20250331-5473.

Comment Date: 5 p.m. ET 4/21/25.

Docket Numbers: EG25-273-000.

Applicants: OSCII Gun Hill LLC.

Description: OSCII Gun Hill LLC submits Notice of Self-Certification of Exempt Wholesale Generator Status.

Filed Date: 4/1/25.

Accession Number: 20250401-5431.

Comment Date: 5 p.m. ET 4/22/25.

Take notice that the Commission received the following electric rate filings:

Docket Numbers: ER25-937-001.

Applicants: Entergy Arkansas, LLC.

Description: Tariff Amendment: Deficiency Response to MSS-4R Amendments to be effective 3/16/2025.

Filed Date: 4/1/25.

Accession Number: 20250401-5094.

Comment Date: 5 p.m. ET 4/22/25.

Docket Numbers: ER25-1127-000.

Applicants: Spring Grove Solar II, LLC.

Description: Supplement to January 31, 2025 Spring Grove Solar II, LLC tariff filing.

Filed Date: 4/1/25.

Accession Number: 20250401-5331.

Comment Date: 5 p.m. ET 4/11/25.

Docket Numbers: ER25-1788-000.

Applicants: Portland General Electric Company.

Description: Petition for Approval of Settlement Agreement of Portland General Electric Company.

Filed Date: 3/20/25.

Accession Number: 20250320-5256.

Comment Date: 5 p.m. ET 4/10/25.

Docket Numbers: ER25-1836-000.

Applicants: PacifiCorp.

Description: § 205(d) Rate Filing: UAMPS Construction Agreement Lehi POD Skye Sub to be effective 5/31/2025.

Filed Date: 3/31/25.

Accession Number: 20250331-5489.

Comment Date: 5 p.m. ET 4/21/25.

Docket Numbers: ER25-1837-000.

Applicants: OSCII Gun Hill LLC.

Description: Initial Rate Filing: Baseline new to be effective 4/1/2025.

Filed Date: 3/31/25.

Accession Number: 20250331-5500.

Comment Date: 5 p.m. ET 4/21/25.

Docket Numbers: ER25-1838-000.

Applicants: Michigan Electric Transmission Company, LLC.

Description: Notice of Termination of Wolverine Campbell 3 Transmission Ownership and Operating Agreement of Michigan Electric Transmission Company, LLC.

Filed Date: 3/31/25.

Accession Number: 20250331-5564.

Comment Date: 5 p.m. ET 4/21/25.

Docket Numbers: ER25-1839-000.

Applicants: Michigan Electric Transmission Company, LLC.

Description: Notice of Termination of Campbell 3 Transmission Ownership and Operating Agreement of Michigan Electric Transmission Company, LLC.

Filed Date: 3/31/25.

Accession Number: 20250331-5565.

Comment Date: 5 p.m. ET 4/21/25.

Docket Numbers: ER25-1840-000.

Applicants: Southwest Power Pool, Inc.

Description: § 205(d) Rate Filing: 3599R5 Missouri Electric Commission NITSA NOA to be effective 4/1/2025.

Filed Date: 4/1/25.

Accession Number: 20250401-5009.

Comment Date: 5 p.m. ET 4/22/25.

Docket Numbers: ER25-1841-000.

Applicants: Southwest Power Pool, Inc.

Description: § 205(d) Rate Filing: North Iowa Municipal Electric Cooperative Association Formula Rate Revisions to be effective 6/1/2025.

Filed Date: 4/1/25.

Accession Number: 20250401-5081.

Comment Date: 5 p.m. ET 4/22/25.

Docket Numbers: ER25-1842-000.

Applicants: Midcontinent Independent System Operator, Inc., International Transmission Company.

Description: § 205(d) Rate Filing: International Transmission Company submits tariff filing per 35.13(a)(2)(iii: 2025-04-01_SA 4467 ITCTransmission-DTE Electric E&P (J2484) to be effective 3/31/2025.

Filed Date: 4/1/25.

Accession Number: 20250401-5086.

Comment Date: 5 p.m. ET 4/22/25.

Docket Numbers: ER25-1843-000.

Applicants: Midcontinent Independent System Operator, Inc.

Description: § 205(d) Rate Filing: 2025-04-01_SA 4296 NSP-NSP 1st Rev GIA (R1032) to be effective 3/25/2025.

Filed Date: 4/1/25.

Accession Number: 20250401-5088.

Comment Date: 5 p.m. ET 4/22/25.

Docket Numbers: ER25-1844-000.

Applicants: Tri-State Generation and Transmission Association, Inc.

Description: § 205(d) Rate Filing: Amendment to Service Agreement FERC No. 891 to be effective 3/10/2025.

Filed Date: 4/1/25.

Accession Number: 20250401-5193.

Comment Date: 5 p.m. ET 4/22/25.

Docket Numbers: ER25-1845-000.

Applicants: Orange and Rockland Utilities, Inc.

Description: § 205(d) Rate Filing: O&R WDS Update 4-1-2025 to be effective 4/1/2024.

Filed Date: 4/1/25.

Accession Number: 20250401-5251.

Comment Date: 5 p.m. ET 4/22/25.

Docket Numbers: ER25-1845-001.

Applicants: Orange and Rockland Utilities, Inc.

Description: Tariff Amendment: Amendment O&R WDS to correct metadata effective date to be effective 4/1/2025.

Filed Date: 4/1/25.

Accession Number: 20250401-5351.

Comment Date: 5 p.m. ET 4/22/25.

Docket Numbers: ER25-1846-000.

Applicants: Midcontinent Independent System Operator, Inc., Entergy Mississippi, LLC.

Description: § 205(d) Rate Filing: Entergy Mississippi, LLC submits tariff filing per 35.13(a)(2)(iii: 2025-04-01_EML Revisions to Exclude Regulatory Liability Related to PBOP to be effective 6/1/2025.

Filed Date: 4/1/25.

Accession Number: 20250401-5309.

Comment Date: 5 p.m. ET 4/22/25.

Docket Numbers: ER25-1847-000.

Applicants: Oklahoma Gas and Electric Company.

Description: § 205(d) Rate Filing: Limited Section 205 Filing to Update Stated Depreciation Rates to be effective 7/1/2024.

Filed Date: 4/1/25.

Accession Number: 20250401-5398.

Comment Date: 5 p.m. ET 4/22/25.

Docket Numbers: ER25-1848-000.

Applicants: St. Joseph Energy Center, LLC.

Description: Tariff Amendment: Notice of Cancellation of Market Based Rate Tariff to be effective 4/1/2025.

Filed Date: 4/1/25.

Accession Number: 20250401-5407.

Comment Date: 5 p.m. ET 4/22/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 1, 2025.
Carlos D. Clay,
Deputy Secretary.

[FR Doc. 2025-05919 Filed 4-4-25; 8:45 am]

BILLING CODE 6717-01-P